SMALL BUSINESS ADMINISTRATION

[Declaration of Disaster #3354]

Commonwealth of Virginia (Amendment #4)

In accordance with a notice received from the Federal Emergency Management Agency, dated August 28, 2001, the above numbered Declaration is hereby amended to extend the deadline for filing applications for physical damages as a result of this disaster to October 10, 2001.

All other information remains the same, i.e., the deadline for filing applications for loans for economic injury is April 12, 2002.

(Catalog of Federal Domestic Assistance Program Nos. 59002 and 59008)
Dated: September 4, 2001.
James E. Rivera,
Acting Associate Administrator for Disaster Assistance.

[FR Doc. 01-22966 Filed 9-12-01; 8:45 am]

BILLING CODE 8025-01-P